DEPARTMENT OF COMMERCE

Foreign-Trade Zones Board

[Order No. 1114]

Expansion of Foreign-Trade Zone 174, Tucson, Arizona

Pursuant to its authority under the Foreign-Trade Zones Act of June 18, 1934, as amended (19 U.S.C. 81a-81u), the Foreign-Trade Zones Board (the Board) adopts the following Order:

Whereas, the City of Tucson, Arizona, grantee of Foreign-Trade Zone 174, submitted an application to the Board for authority to expand FTZ 174 (Site 2) within the Century Park Research Center in Tucson, Arizona, within the Tucson Customs port of entry (FTZ Docket 56-99; filed 11/8/99);

Whereas, notice inviting public comment was given in the Federal Register (64 FR 63785, 11/22/99) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 174 (Site 2) is approved, subject to the Act and the Board's regulations, including Section 400.28.

Signed at Washington, DC, this 9th day of August 2000.
Troy H. Cribb,
Acting Assistant Secretary of Commerce for Import Administration, Alternate Chairman, Foreign-Trade Zones Board.
Dennis Puccinelli,
Executive Secretary.

[FR Doc. 00-20988 Filed 8-16-00; 8:45 am]

BILLING CODE 3510-DS-P